DEPARTMENT OF ENERGY

Federal Energy Regulatory Commission

[Docket No. RP00-632-007]

Dominion Transmission, Inc.; Notice of Report of Refunds

March 5, 2002.

Take notice that on February 26, 2002, Dominion Transmission, Inc. (DTI) filed its report of refunds attributable to the resolution of the above-captioned proceeding. DTI states that the reported refunds and billing adjustments reflect DTI's implementation of the TCRA settlement in the above-captioned proceeding.

DTI states that the purpose of this filing is to report refunds (including interest) that DTI made by wire on January 29, 2002, and billing adjustments made with January invoices. DTI further states that these refunds were made as a result of DTI's implementation of the Commission's September 13, 2001, and October 26, 2001, letter orders, in Docket Nos. RP00-632-000, et al.

DTI states that copies of its report and summary workpapers are being mailed to affected customers, interested state commissions and all parties to the above-captioned proceeding.

Any person desiring to protest said filing should file a protest with the Federal Energy Regulatory Commission, 888 First Street, NE., Washington, DC 20426, in accordance with section 385.211 of the Commission's rules and Regulations. All such protests must be filed on or before March 12, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5726 Filed 3-8-02; 8:45 am]

BILLING CODE 6717-01-P